DEPARTMENT OF COMMERCE

International Trade Administration

[A-412-822]

Stainless Steel Bar from the United Kingdom: Notice of Partial Rescission of Antidumping Duty Administrative Review

AGENCY: Import Administration, International Trade Administration, Department of Commerce.

EFFECTIVE DATE: June 16, 2006.

FOR FURTHER INFORMATION CONTACT: Kate Johnson or Rebecca Trainor, Import Administration, International Trade Administration, U.S. Department of Commerce, 14th Street and Constitution Avenue, NW., Washington, DC 20230; telephone: (202) 482-4929 or (202) 482-4007, respectively.

SUPPLEMENTARY INFORMATION:

Background

On March 2, 2006, the Department published in the Federal Register (71 FR 10642) a notice of “Opportunity To Request Administrative Review” of the antidumping duty order on stainless steel bar from the United Kingdom for the period March 1, 2005, through February 28, 2006. On March 30 and 31, 2006, Firth Rixson Limited (Firth Rixson) and Corus Engineering Steels (CES), respectively, requested an administrative review of their sales for the above-mentioned period. On April 28, 2006, the Department published a notice of initiation of an administrative review of the antidumping duty order on stainless steel bar from the United Kingdom with respect to these companies. See Initiation of Antidumping and Countervailing Duty Administrative Reviews, 71 FR 25145.

Partial Rescission of Review

On June 1, 2006, CES timely withdrew its request for an administrative review of its sales during the above-referenced period. Section 351.213(d)(1) of the Department's regulations requires that the Secretary rescind an administrative review if a party requesting a review withdraws the request within 90 days of the date of publication of the notice of initiation. In this case, CES has withdrawn its request for review within the 90-day period. We have received no other submissions regarding CES's withdrawal of its request for review. Therefore, we are rescinding in part this review of the antidumping duty order on stainless steel bar from the United Kingdom with respect to CES. This review will continue with respect to Firth Rixson.

This notice is published in accordance with section 751 of the Tariff Act of 1930, as amended, and 19 CFR 351.213(d)(4).

Dated: June 12, 2006.
Stephen J. Claeys,
Deputy Assistant Secretary for Import Administration.

[FR Doc. E6-9474 Filed 6-15-06; 8:45 am]

BILLING CODE 3510-DS-S